NUCLEAR REGULATORY COMMISSION

[Docket No. 40-09091; NRC-2011-0148]

Issuance of Materials License and Staff's Record of Decision for Strata Energy, Inc. Ross ISR Project

AGENCY: Nuclear Regulatory Commission.

ACTION: License and staff's record of decision; issuance.

SUMMARY: The U.S. Nuclear Regulatory Commission (NRC) has issued a license to Strata Energy, Inc. (Strata) for its Ross Uranium In-Situ Recovery (ISR) Facility in Crook County, Wyoming. Under conditions listed in the license, the Source and Byproduct Materials License SUA-1601 authorizes Strata to operate its facilities as proposed in its license application, as amended, and to possess uranium source and byproduct material at the Ross ISR Facility. In addition, the NRC staff has published a record of decision (ROD) that supports the NRC's decision to approve Strata's license application for the Ross ISR Facility and to issue the license.

ADDRESSES: Please refer to Docket ID NRC-2011-0148 when contacting the NRC about the availability of information regarding this document. You may access publicly-available information related to this document using any of the following methods:

• Federal Rulemaking Web site: Go to http://www.regulations.gov and search for Docket ID NRC-2011-0148. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. In addition, for the convenience of the reader, the ADAMS accession numbers are provided in a table in the section of this document entitled, SUPPLEMENTARY INFORMATION.

• NRC's PDR: You may examine and purchase copies of public documents at the NRC's PDR, Room O1-F21, One White Flint North, 11555 Rockville Pike, Rockville, Maryland 20852.

FOR FURTHER INFORMATION CONTACT: John Saxton, Office of Federal and State Materials and Environmental Management Programs, U.S. Nuclear Regulatory Commission, Washington, DC 20555-0001; telephone: 301-415-0697; email: John.Saxton@nrc.gov.

SUPPLEMENTARY INFORMATION: Part 40 of Title 10 of the Code of Federal Regulations (10 CFR) authorizes the NRC to issue a license to Strata Energy, Inc. (Strata) for its Ross Uranium In-Situ Recovery (ISR) Facility in Crook County, Wyoming. Under conditions in the license, the Source and Byproduct Materials License SUA-1601 authorizes Strata to operate its facilities as proposed in its license application, as amended, and to possess uranium source and byproduct material at the Ross ISR Facility. The NRC staff's ROD that supports the NRC's decision to approve Strata's license application for the Ross ISR Facility and to issue the license is available in ADAMS under Accession No. ML14056A096.

In accordance with 10 CFR 2.390 of the NRC's “Rules of Practice,” the details with respect to this action, including the Safety Evaluation Report and accompanying documentation and license, are available electronically in the NRC Library at http://www.nrc.gov/reading-rm/adams.html. From this site, you can access the NRC's Agencywide Document Access and Management System (ADAMS), which provides text and image files of the NRC's public documents. The ADAMS accession numbers for the documents related to this notice are:

1 Generic Environmental Impact Statement for In-Situ Leach Uranium Milling Facilities, May 2009 | ML091530075
2 Strata Energy, Inc.'s Application, January 4, 2011 | ML110120063
3 Supplemental Information, February 28, 2011 | ML110800187
4 Response to Request for Additional Information, March 30, 2012 | ML121030404
5 Response to Request for Additional Information, April 6, 2012 | ML121020343
6 Clarification to RAI Responses, August 10, 2012 | ML12227A369
7 Technical Report Replacement Pages, January 18, 2013 | ML130370654
8 Containment Barrier Wall Construction Update, October 14, 2013 | ML13295A230
9 Safety Evaluation Report Suggested Corrections, October 17, 2013 | ML13296A026
10 Technical Report Replacement Pages, February 19, 2014 | ML14065A092
11 Environmental Impact Statement for the Ross ISR Project in Crook County, Wyoming, Supplement to the Generic Environmental Impact Statement for In-Situ Leach Uranium Milling Facilities, Draft Report for Public Comments, March 31, 2013 | ML13078A036
12 Environmental Impact Statement for the Ross ISR Project in Crook County, Wyoming, Supplement to the Generic Environmental Impact Statement for In-Situ Leach Uranium Milling Facilities, Final Report, February 28, 2014 | ML14056A096
13 Programmatic Agreement for Protection of Cultural Resources, April 24, 2014 | ML14111A346
14 NRC Safety Evaluation Report, April 18, 2014 | ML14108A088
15 Source and Byproduct Materials License SUA-1601, April 24, 2014 | ML14069A315
15 NRC Staff's Record of Decision, April 24, 2014 | ML14073A107

Dated at Rockville, Maryland, this 24th day of April 2014.
For The Nuclear Regulatory Commission.
Andrew Persinko,
Deputy Director, Decommissioning and Uranium Recovery Licensing Directorate, Division of Waste Management and Environmental Protection, Office of Federal and State Materials and Environmental Management Programs.

[FR Doc. 2014-10133 Filed 5-1-14; 8:45 am]

BILLING CODE 7590-01-P